DEPARTMENT OF ENERGY

Federal Energy Regulatory Commission

[Docket No. ER03-263-000]

Commonwealth Edison Company and Commonwealth Edison Company of Indiana, Inc.; Notice of Filing

December 16, 2002.

Take notice that on December 11, 2002, Commonwealth Edison Company and Commonwealth Edison Company of Indiana, Inc. (collectively ComEd) tendered for filing with the Federal Energy Regulatory Commission (Commission) a notice of cancellation of its Open Access Transmission Tariff (OATT). On either February 1, 2003, or March 1, 2003 (the transmission service date), ComEd's OATT will be cancelled. On the transmission service date approved by the Commission, ComEd will transfer functional control of its facilities and transmission provider responsibilities to PJM Interconnection, LLC (PJM), and PJM will commence transmission service under PJM's OATT over ComEd's transmission facilities.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: January 2, 2003.

Magalie R. Salas,
Secretary.

[FR Doc. 02-32203 Filed 12-20-02; 8:45 am]

BILLING CODE 6717-01-P